DEPARTMENT OF THE TREASURY

Submission for OMB Review; Comment Request

November 4, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 12, 2003, to be assured of consideration.

Internal Revenue Service (IRS)

OMB Number: 1545-1855.

Regulation Project Number: REG-141402-02 NPRM and Temporary.

Type of Review: Extension.

Title: Limitation on Use of the Nonaccrual-Experience Method of Accounting Under Section 48(d)(5).

Description: The regulations provide four safe harbor nonaccrual-experience methods that will presumed to clearly reflect a taxpayer's nonaccrual experience, and for taxpayers who wish to compute their nonaccrual experience using a computation or formula other than the one of the four safe harbors provided, the requirements that must be met in order to use an alternative computation or formula to compute their nonaccrual experience.

Respondents: Business or other for-profit.

Estimated Number of Recordkeepers: 8,000.

Estimated Burden Hours Recordkeeper: 3 hours.

Frequency of Response: Annually.

Estimated Total Reporting Burden: 24,000 hours.

Clearance Officer: R. Joseph Durbala, (202) 622-3634, Internal Revenue Service, Room 6411, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 03-28272 Filed 11-10-03; 8:45 am]

BILLING CODE 4830-01-P